DEPARTMENT OF THE INTERIOR

Office of the Secretary

[234D0102DM, DS61200000, DLSN00000.000000, DX61201]

Request for Public Nominations for Authors and Scientific/Technical Inputs for the First National Nature Assessment

AGENCY: Office of Policy Analysis, Interior.

ACTION: Request for public nominations.

SUMMARY: The U.S. Department of the Interior, on behalf of the U.S. Global Change Research Program (USGCRP), is soliciting nominations for authors and scientific/technical inputs for the First National Nature Assessment (NNA1). Refer to the NNA1 Draft Prospectus for further information on the scope, topics, and overarching themes for the report. NNA1 will adhere to the Global Change Research Act, Information Quality Act, and Evidence Act requirements for quality, transparency, and accessibility as appropriate for a Highly Influential Scientific Assessment. NNA1 will also adhere to USGCRP standards and guidelines requiring it to be a policy-neutral and policy-relevant product.

DATES: Nominations should be submitted via the web address specified below and must be received by the close of this notice January 4, 2024. While we request that scientific/technical inputs be submitted by the close of this notice, they will be accepted on an ongoing basis throughout the development of the report.

ADDRESSES: Nominations for authors must be submitted electronically using a web form accessible via https://www.globalchange.gov/notices. A short Curriculum Vitae (CV) of no more than four (4) pages must be included. Scientific/technical inputs should also be submitted electronically using a web form accessible via https://www.globalchange.gov/notices.

Instructions: Response to this notice is voluntary. Responses to this notice may be used by the U.S. Government for program planning on a non-attribution basis. The Department of the Interior therefore requests that no business proprietary information or copyrighted information be submitted in response to this notice. Information relating to national defense or national security of the United States of America should not be submitted in response to the notice. Please note that the U.S. Government will not pay for response preparation or for the use of any information contained in the response.

FOR FURTHER INFORMATION CONTACT: Chris Avery, (202) 419-3474, cavery@usgcrp.gov, U.S. Global Change Research Program

SUPPLEMENTARY INFORMATION: The U.S. Global Change Research Program (USGCRP) was created by Congress in 1990 to “assist the Nation and the world to understand, assess, predict, and respond to human-induced and natural processes of global change.” USGCRP comprises 14 Federal agencies that work together to carry out its legislative mandate. USGCRP is conducting the First National Nature Assessment (NNA1) to assess changes in nature as an aspect of global change. The scope of NNA1 is to assess the status, observed trends, and future projections of America's lands, waters, wildlife, biodiversity, and ecosystems and the benefits they provide, including connections to the economy, public health, equity, climate mitigation and adaptation, and national security.

NNA1 development will be transparent and inclusive, offering opportunities for public participation throughout the process. The development of NNA1 is overseen by a Federal Steering Committee (FSC) comprising representatives from each of USGCRP's member agencies. The production and review processes are designed to result in a report that is authoritative, timely, relevant, and policy neutral; valued by authors and users; accessible to the widest possible audience; and fully compliant with the Global Change Research Act and pertinent Federal laws and policies. In August 2023, comments were solicited through a 45-day request for information on the draft National Nature Assessment Prospectus (https://www.federalregister.gov/documents/2023/08/04/2023-16794/draft-prospectus-for-the-first-national-nature-assessment). Comments received on the draft Prospectus informed the list of potential topics included in Section I of the current request.

Author nominees may be invited to serve as Chapter Lead Authors, Authors, or Technical Contributors to NNA1. Chapter Lead Authors will, with input and guidance from the Federal Steering Committee (FSC), establish author teams comprising Federal and non-Federal experts. A Federal Coordinating Lead Author selected by the FSC will serve as a liaison between the author team and Federal agencies. For more information on author roles, see https://www.globalchange.gov/nna. Note that other roles may be developed by the FSC on an as needed basis as the report develops.

In addition, this request presents an opportunity to submit relevant scientific/technical inputs to inform the assessment, as well as Indigenous Knowledge inputs for similar use. This request also outlines planned opportunities for the public to engage in the NNA1 development process.

Additional details and instructions for submitting nominations for authors and scientific/technical inputs are available at https://www.globalchange.gov/notices. For the responsibilities and expectations of the different types of authors and contributors, please see https://www.globalchange.gov/nna.

All participation in and contributions to NNA1 will be without compensation and will be potentially included in the publicly released NNA. By voluntarily participating in the NNA1, you acknowledge the following:

• Participation in NNA1 means facilitating the development of NNA1, contributing new work to NNA1, or contributing pre-existing work for NNA1. Any such work will be incorporated into NNA1 at the discretion of the Federal Government, including the possibility of modification, without any compensation and without redaction under the Freedom of Information Act (FOIA) or otherwise.

• All contributions to NNA1 of text and original figures (those newly created for NNA1 and not previously published) will be released under the Creative Commons 1.0 Universal Public Domain Dedication (CC0 1.0). Such contributions will not be protected by copyright or other intellectual property rights. Data, algorithms/models, and software code used to create or support the creation of text and original figures will also be publicly released in connection with NNA1. In some cases, such data, algorithms/models, and software code may be subject to copyright restrictions prohibiting both their use for commercial purposes and the creation of derivative works, but any such restrictions may not prohibit their use for the purpose of reproducing results.

• Participants assume all risks associated with participation in NNA1. By participating, participants inherently waive all claims against the Federal Government and its related entities, except for claims based on willful misconduct, for any injury, death, damage, or loss of property, revenue, or profits (whether direct, indirect, or consequential) arising from participation in NNA1.

• By participating, participants agree to indemnify the Federal Government in the event that it suffers liability or damages as a result of its use of the contribution.

Call for Nominations for Authors

Nominations are sought for authors with pertinent subject matter expertise or relevant background, including Indigenous Knowledge holders, in at least one of the topics delineated below. Nominees should have a demonstrated history of expertise and proficiency in at least one of the topics delineated below. Nominations are encouraged from all nongovernmental sectors.

The NNA Federal Steering Committee recognizes the value of Indigenous Knowledge that Tribal Nations and Indigenous peoples have gained and passed down from generation to generation and recognizes Indigenous Knowledge as one of many important bodies of knowledge that can contribute to NNA1. The FSC understands that multiple lines of evidence or ways of knowing can lead to better-formed assessments and encourages nominations of Indigenous Knowledge holders as Chapter Lead Authors, Authors, or Technical Contributors.

Submissions must document that nominees have demonstrated backgrounds such that they could contribute to the development of a robust assessment as subject matter experts in one or more of the listed topics. In addition, individuals interested in being considered for chapter leadership positions should have experience with leading collaborative teams under deadlines. Authors volunteering to assist in writing NNA1 are providing an important service to the United States. Author roles allow these volunteers to contribute to the first-ever national assessment of nature. In addition to providing an opportunity to inform policy, participation in NNA1 will allow authors to expand their professional networks and visibility, and to explore opportunities to create derivative products. The Federal Government will not provide financial compensation for these roles. The Federal Government is expected to provide travel costs to authors to attend meetings if requested for NNA1. Formal acknowledgment will be provided to each author's institution.

Responses to this request for nominations for authors must be submitted within 45 days of the opening of this notice. The nomination forms can be accessed via https://www.globalchange.gov/notices. Interested persons may nominate themselves or third parties for these roles, and individuals may submit multiple nominations.

Each nomination must include (1) the nominee's full name, title, institutional affiliation, and contact information; (2) the nominee's area(s) of expertise; (3) the proposed NNA1 topic(s) (see below) for which the nominee is qualified; (4) a short description of the nominee's qualifications relative to contributing to the report; and (5) a current CV [maximum length four (4) pages].

Nominations with missing information, or for nominees who do not meet the eligibility requirements above, may not be considered.

NNA1 will attempt to address the full breadth of each topic and seeks a suitably diverse author pool, including Indigenous Knowledge holders, biophysical and social scientists, as well as traditionally underrepresented groups. Selection criteria for all author positions will consider expertise, disciplinary background, career status, diversity, and geographic representation.

Nominees may be invited to serve as Chapter Lead Authors, Authors, or Technical Contributors to NNA1.

Persons selected as Chapter Lead Authors will be informed after the close of the nominations window. Eligible nominees not selected as Chapter Lead Authors will be considered for roles as Authors or Technical Contributors.

The NNA1 report use-inspired and knowledge driven and will be organized around key thematic interests identified through Federal agency, public, and Tribal engagement efforts. These themes are detailed in the draft National Nature Assessment Prospectus (https://www.federalregister.gov/documents/2023/08/04/2023-16794/draft-prospectus-for-the-first-national-nature-assessment). The NNA1 report will include, but is not limited to, the following topics (subject to change):

• Assessment approach of NNA1

• The Status, Trends and Future Projections of Nature in the U.S.

• Status, Trends and Future Projections of Drivers of Change of Nature in the U.S.

• Nature and Equity

• Nature and Human Health and Wellbeing

• Nature and Its Relationship to Cultural Heritage

• Nature and Safety and Security

• Nature and the Economy

NNA1 seeks authors with expertise in the following areas (subject to change):

• Ecology, evolutionary biology, genetics, and other conservation-relevant biophysical sciences, including those with expertise in the status and trends in biodiversity and ecosystems (including nutrients), culturally important species, and climate adaptation and mitigation.

• Environmental social science including those with expertise in anthropology, sociology, geography, political science, psychology, and environmental history.

• Changes in nature as they relate to aspects of domestic safety and security, including natural hazards, desertification, changes in populations of pests and disease, loss of arable land, and other changes in nature that affect food and water security, and that directly or indirectly influence public safety and patterns of human behavior and movements.

• Connections between nature and human health and well-being, including physical, mental, and public health and well-being.

• Drivers of change in biodiversity and ecosystems.

• Economic activities, infrastructure, and employment that are directly or indirectly related to nature, including how changes in nature affect economic benefits, risks, and opportunities.

• Environmental justice and equity, including but not limited to topics such as access to nature and the benefits of nature, disproportionate impacts of environmental hazards, and equitable access to nature-based solutions.

• Data visualization and scientific graphics.

• Further, authors are welcome to nominate themselves for topics not listed above that are consistent with the scope of NNA1.

Call for Relevant Scientific/Technical Inputs To Inform NNA1:

Submissions of scientific/technical inputs are sought for NNA1. Relevant scientific and/or technical research studies—including observed, modeled, and/or projected changes in nature and/or benefits from nature—are requested. Scientific/technical inputs that are peer-reviewed and published, or accepted for publication, in journals and/or government reports are welcome. Please refer to the NNA1 topics list above to target submissions. Submissions of information for cross-cutting topics are especially encouraged. For best consideration, please submit by the close of this notice. Submissions must be uploaded electronically via the link provided at https://www.globalchange.gov/notices.

The NNA Federal Steering committee understands that Indigenous Knowledge may be sensitive, sacred, or belongs to certain families or clans, and recognizes concerns of Tribes and Indigenous Peoples regarding privacy or potential threats to natural or cultural resources. As such, the NNA Federal Steering committee will follow the guidance on Indigenous Knowledge provided by the White House Office of Science and Technology Policy and Council on Environmental Quality (https://www.whitehouse.gov/wp-content/uploads/2022/12/OSTP-CEQ-IK-Guidance.pdf). We welcome discussion with Indigenous Knowledge holders regarding the potential benefits and risks of sharing Indigenous Knowledge, including the potential for public release under the Freedom of Information Act and other public disclosure obligations. When possible, the NNA team will collaborate with Tribal Nations and Indigenous Peoples to develop the means for information sharing that reduces the risk of disclosure. The NNA team will work with Tribes and Indigenous Peoples to facilitate informed decision making.

Notice of Planned Public Engagement Opportunities For NNA1:

Public engagement has been a priority for NNA1 with more than 25 public outreach activities to date. Multiple future opportunities for public engagement to inform NNA1 will be presented throughout the report's development. The following planned public engagement schedule is presented to notify the public of these coming opportunities. Note that the proposed time ranges are tentative and subject to change based on the timing of various development stages for NNA.

• Public comment on NNA1 annotated outline (Q2 2024)

• Public engagement workshops and webinars (Q2 2024 through Q3 2025)

• Public call for Review Editors (Q4 2025)

• Public comment on NNA1 Third Order Draft (Q3 & Q4 2025)

• National Academies of Sciences, Engineering, and Medicine peer review of NNA1 Third Order Draft (Q4 & Q5 2025)

Interested parties are invited to participate in these public engagement opportunities to ensure robust public input to NNA1. Specific dates and locations for all engagements will be provided on https://www.globalchange.gov/notices as they are determined.

Members of the public may also sign up to receive updates through USGCRP's bimonthly newsletter at https://www.globalchange.gov/newsletter-signup.

Jacob Malcom,
Director, Office of Policy Analysis Office of Policy, Management, and Budget.

[FR Doc. 2023-25573 Filed 11-17-23; 8:45 am]

BILLING CODE 4334-63-P